DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by April 19, 2002.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following application(s) for a permit to conduct certain activities with endangered species. This notice is provided pursuant to Section 10(c) of the Endangered Species Act of 1973, as amended (16 U.S.C. 1531, et seq.). Written data, comments, or requests for copies of these complete applications should be submitted to the Director (address above).

Applicant: San Diego Wild Animal Park, Escondido, California, PRT-047997.

The applicant requests a permit to import one male and one female captive-born Asian wild asses (Equus kiang holdereri = E. hemionus) and one female captive-born Somali wild ass (Equus africanus somalicus) from Tierpark Berlin-Friedrichsfelde, Germany for the purpose of enhancement of the survival of the species.

Applicant: Wheeling Park Commission, Ogelbay's Good Zoo, Wheeling, WV, PRT-053684.

The applicant request a permit to acquire through interstate commerce one male captive-born Komodo monitor (Varanus komodoensis) for the purpose of enhancement of the survival of the species through conservation education.

Applicant: Director, Division of Law Enforcement, U.S. Fish and Wildlife Service, Arlington, Virginia, PRT-691650.

The applicant requests renewal of a permit for five years to import and export any endangered or threatened species for the explicit purpose of investigations and other law enforcement activities in order to enhance the survival of the species in the wild.

Applicant: Director, National Fish and Wildlife Forensics Laboratory, U.S. Fish and Wildlife Service, Ashland, Oregon, PRT-053639.

The applicant requests renewal of a permit for five years to import and export any endangered or threatened species for the explicit purpose of forensics activities which will directly or indirectly enhance the survival of the species in the wild.

Applicant: John Newton Walker, Dallas, TX, PRT-053503.

The applicant request a permit to import the sport-hunted trophy of one male bontebok (Damaliscus pygargus dorcas) culled from a captive herd maintained under the management program of the Republic of South Africa, for the purpose of enhancement of the survival of the species.

Applicant: Omaha's Henry Doorly Zoo, Omaha, NE, PRT-053363.

The applicant request a permit to import two captive-born female Bornean orangutans (Pongo pygmaeus pygmaeus) from the Hong Kong Zoological and Botanical Gardens, Hong Kong, for the purpose of enhancement of the survival of the species through captive propagation.

Applicant: Omaha's Henry Doorly Zoo, Omaha, NE, PRT-053606.

The applicant request a permit to import captive-born male Amur leopard (Panthera pardus orientalis) from Jungle Cat World, Orono, Ontario, Canada, for the purpose of enhancement of the survival of the species through captive propagation.

Marine Mammals

The public is invited to comment on the following application(s) for a permit to conduct certain activities with marine mammals. The application(s) was submitted to satisfy requirements of the Marine Mammal Protection Act of 1972, as amended (16 U.S.C. 1361 et seq.) and the regulations governing marine mammals (50 CFR 18). Written data, comments, or requests for copies of the complete applications or requests for a public hearing on these applications should be submitted to the Director (address above). Anyone requesting a hearing should give specific reasons why a hearing would be appropriate. The holding of such a hearing is at the discretion of the Director.

Applicant: John F. Wilhelm, Mill Valley, CA, PRT-053629.

The applicant requests a permit to import a polar bear (Ursus maritimus) sport hunted from the Southern Beaufort Seapolar bear population in Canada for personal use.

The U.S. Fish and Wildlife Service has information collection approval from OMB through March 31, 2004, OMB Control Number 1018-0093. Federal Agencies may not conduct or sponsor and a person is not required to respond to a collection of information unless it displays a current valid OMB control number.

Dated: March 1, 2002.
Monica Farris,
Senior Permit Biologist, Branch of Permits, Division of Management Authority.

[FR Doc. 02-6729 Filed 3-19-02; 8:45 am]

BILLING CODE 4310-55-P